DEPARTMENT OF COMMERCE

International Trade Administration

[A-570-904]

Certain Activated Carbon From the People's Republic of China: Notice of Initiation and Preliminary Results of Changed Circumstances Review, and Intent To Revoke Order in Part

AGENCY: Import Administration, International Trade Administration, Department of Commerce.

DATES: Effective Date: January 27, 2009.

SUMMARY: On December 15, 2008, the Department of Commerce (“Department”) received a request for a changed circumstances review and a request to revoke in part the antidumping duty order on certain activated carbon from the People's Republic of China with respect to certain parts of fish tank filters which contain no more than 500 grams of activated carbon, or a combination of activated carbon and zeolite, and are fitted to work with specific filters. Petitioners submitted a letter to the Department expressing lack of interest in antidumping duty relief from the imports of certain parts of fish tank filters as described below. Therefore, we are notifying the public of our intent to revoke, in part, the antidumping duty order as it relates to import of certain fish tank filters as described below. The Department invites interested parties to comment on these preliminary results.

FOR FURTHER INFORMATION CONTACT: Catherine Bertrand, Import Administration, International Trade Administration, U.S. Department of Commerce, 14th Street and Constitution Avenue, NW., Washington DC. 20230; telephone (202) 482-3207.

Background

On April 27, 2007, the Department of Commerce (the “Department”) published the antidumping duty order on certain activated carbon from the People's Republic of China. See Notice of Antidumping Duty Order: Certain Activated Carbon from the People's Republic of China, 72 FR 20988 (April 27, 2007). On December 15, 2008, the Department received a request on behalf of Rolf C. Hagen (USA), Corp. (“Hagen”) for a changed circumstances review and a request to revoke in part the antidumping duty order on certain activated carbon from the People's Republic of China with respect to certain parts of fish tank filters which contain no more than 500 grams of activated carbon, or a combination of activated carbon and zeolite, and fitted to work with specific filters. On December 17, 2008, Petitioners ¹, Calgon Carbon Corporation and Norit Americans Inc. (collectively, “Petitioners”), submitted a response on the record and stated that they agree with Hagen's request and agree with the specific proposed exclusion language from Hagen's December 15, 2008, submission, as described below.

¹ See Memorandum to the File: Petitioners' Representation of Domestic Industry (January 6, 2009).

Scope of the Order

The merchandise subject to this order is certain activated carbon. Certain activated carbon is a powdered, granular, or pelletized carbon product obtained by “activating” with heat and steam various materials containing carbon, including but not limited to coal (including bituminous, lignite, and anthracite), wood, coconut shells, olive stones, and peat. The thermal and steam treatments remove organic materials and create an internal pore structure in the carbon material. The producer can also use carbon dioxide gas (CO2) in place of steam in this process. The vast majority of the internal porosity developed during the high temperature steam (or CO2 gas) activated process is a direct result of oxidation of a portion of the solid carbon atoms in the raw material, converting them into a gaseous form of carbon.

The scope of this order covers all forms of activated carbon that are activated by steam or CO2, regardless of the raw material, grade, mixture, additives, further washing or post-activation chemical treatment (chemical or water washing, chemical impregnation or other treatment), or product form. Unless specifically excluded, the scope of this order covers all physical forms of certain activated carbon, including powdered activated carbon (“PAC”), granular activated carbon (“GAC”), and pelletized activated carbon.

Excluded from the scope of the order are chemically activated carbons. The carbon-based raw material used in the chemical activation process is treated with a strong chemical agent, including but not limited to phosphoric acid, zinc chloride sulfuric acid or potassium hydroxide, that dehydrates molecules in the raw material, and results in the formation of water that is removed from the raw material by moderate heat treatment. The activated carbon created by chemical activation has internal porosity developed primarily due to the action of the chemical dehydration agent. Chemically activated carbons are typically used to activate raw materials with a lignocellulosic component such as cellulose, including wood, sawdust, paper mill waste and peat.

To the extent that an imported activated carbon product is a blend of steam and chemically activated carbons, products containing 50 percent or more steam (or CO2 gas) activated carbons are within this scope, and those containing more than 50 percent chemically activated carbons are outside this scope. This exclusion language regarding blended material applies only to mixtures of steam and chemically activated carbons.

Also excluded from the scope are reactivated carbons. Reactivated carbons are previously used activated carbons that have had adsorbed materials removed from their pore structure after use through the application of heat, steam and/or chemicals.

Also excluded from the scope is activated carbon cloth. Activated carbon cloth is a woven textile fabric made of or containing activated carbon fibers. It is used in masks and filters and clothing of various types where a woven format is required.

Any activated carbon meeting the physical description of subject merchandise provided above that is not expressly excluded from the scope is included within this scope. The products subject to the order are currently classifiable under the Harmonized Tariff Schedule of the United States (“HTSUS”) subheading 3802.10.00. Although the HTSUS subheading is provided for convenience and customs purposes, the written description of the scope of this order is dispositive.

Initiation and Preliminary Results of Changed Circumstances Review, and Intent To Revoke Order in Part

At the request of Hagen, and with agreement by Petitioners, and in accordance with sections 751(d)(1) and 751(b)(1) of the Tariff Act of 1930, as amended (the “Act”) and 19 CFR 351.216, the Department is initiating a changed circumstances review of certain activated carbon from the People's Republic of China to determine whether partial revocation of the antidumping duty order is warranted with respect to certain parts of fish tank filters which contain no more than 500 grams of activated carbon, or a combination of activated carbon and zeolite, and are fitted to work with specific filters. Section 782(h)(2) of the Act and 19 CFR 351.222(g)(1)(i) provide that the Department may revoke an order (in whole or in part) if it determines that producers accounting for substantially all of the production of the domestic like product have no further interest in the order, in whole or in part. In addition, in the event the Department determines that expedited action is warranted, 19 CFR 351.221(c)(3)(ii) permits the Department to combine the notices of initiation and preliminary results.

In accordance with section 751(b) of the Act, and 19 CFR 351.222(g)(l)(i) and 351.221(c)(3), we are initiating this changed circumstances review and have determined that expedited action is warranted. Based on information from the investigation placed on the record of this review ², in accordance with 19 CFR 351.222(g)(1)(i), we find Petitioners comprise substantially all of the production of the domestic like product. Petitioners have expressed a lack of interest in the order, in part, with respect to certain fish tank filters. Because this changed circumstances request was filed less than 24 months after the date of publication of notice of the final determination in an investigation, pursuant to 19 CFR 351.216(c), the Department must determine whether good cause exists. We find that the Petitioners' affirmative statement of no interest in the order with respect to certain parts of fish tank filters, which contain no more than 500 grams of activated carbon, or a combination of activated carbon and zeolite, and are fitted to work with specific filters, constitutes good cause for the conduct of this review. Based on the expression of no interest by the Petitioners and absent any objection by any other domestic interested parties, we have preliminarily determined that the domestic producers of the like product have no interest in the continued application of the antidumping duty order on certain activated carbon to the merchandise that is subject to this request. Accordingly, we are notifying the public of our intent to revoke, in part, the antidumping duty order as it relates to imports of the certain parts of fish tank filters, which contain no more than 500 grams of activated carbon, or a combination of activated carbon and zeolite, and are fitted to work with specific filters, as described below. Therefore, we intend to change the scope of the order on certain activated carbon from the People's Republic of China to include the following exclusion:

² See Memorandum to the File: Petitioners' Representation of Domestic Industry (January 6, 2009).

Also excluded from the scope are molded plastic filter cartridges, woven textile filter pads and filter bags that contain not more than 500 grams of certain activated carbon alone, or a combined total of 500 grams of certain activated carbon and natural zeolite. Combinations of subject activated carbon and other materials are not subject to this exclusion. Molded plastic filter cartridges and woven textile filter pads subject to this exclusion must be packaged marked and ready for retail sales as ready-to-use aquarium filters and filter parts at the time of importation. Zeolite refers to a family of hydrous aluminum silicate minerals, whose molecules enclose cations of sodium, potassium, calcium, strontium or barium, used chiefly as molecular filters and ion-exchange agents. Some of the more common natural mineral zeolites include analcime, chabazite, heulandite, natroliote, phillipsite, and stilbite. Excluded filters cartridges, filter bags and woven filter bags are classified under subheading 8421.99.0040 of the HTSUS.

Public Comment

Interested parties are invited to comment on these preliminary results. Written comments may be submitted no later than 14 days after the date of publication of these preliminary results. Rebuttals to written comments, limited to issues raised in such comments, may be filed no later than 21 days after the date of publication. The Department will issue the final results of this changed circumstances review, which will include the results of its analysis raised in any such written comments, no later than 270 days after the date on which this review was initiated, or within 45 days if all parties agree to our preliminary results. See 19 CFR 351.216(e).

If final revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

This initiation and preliminary results of review and notice are in accordance with sections 751(b) and 777(i) of the Act and 19 CFR 351.216, 351.221, and 351.222.

Dated: January 16, 2009.
Ronald K. Lorentzen,
Acting Assistant Secretary for Import Administration.

[FR Doc. E9-1584 Filed 1-26-09; 8:45 am]

BILLING CODE 3510-DS-P